DEPARTMENT OF JUSTICE

Notice of Lodging of the Consent Decree Under the Clean Water Act

Notice is hereby given that on May 3, 2010, a proposed Consent Decree in United States v. Puerto Rico Aqueduct and Sewer Authority (“PRASA”), Civil Action No. 3:10-cv-01365 (SEC) was lodged with the United States Court for the District of Puerto Rico.

The proposed Consent Decree resolves PRASA's violations of the Clean Water Act, 33 U.S.C. 1251 et seq. (the “CWA”) and the Safe Drinking Water Act, 42 U.S.C. 300f et seq., (the “SDWA”), and penalties and injunctive relief from PRASA. Specifically, the Consent Decree resolves PRASA's violations of the National Primary Drinking Water Regulations (“NPDWRs”) set forth in Section 1412 of the SDWA, 42 U.S.C. 300g, and its implementing regulations, 40 CFR Part 141, as a result of its failure to comply with the Surface Water Treatment Rule (“SWTR”), at three Water Treatment Plants (“WTPs”) owned and/or operated by PRASA. The Decree also resolves PRASA's violations for failing to comply with the CWA by discharging pollutants without a permit at 19 WTPs, in violation of Section 301(a) of the Act, 33 U.S.C. 1311(a), and/or failing to comply with the terms of National Pollutant Discharge Elimination System (“NPDES”) permits issued to it by EPA pursuant to Section 402 of the Act, 33 U.S.C. 1342, for at least 102 WTPs owned and/or operated by PRASA.

Under the Consent Decree, PRASA will implement water treatment plant improvement projects over the next 15 years valued at $195 million. These projects are divided into three phases of short term, mid-term, and long term Capitol Improvement Projects to rectify the CWA violations at 126 WTPs owned and operated by PRASA. The Consent Decree requires such projects as installing dechlorination equipment, high level indicators and flow meters; relocating sampling points; and constructing new sludge treatment systems. 34 Sludge Treatment Systems will be built at WTPs that are currently discharging untreated sludge into local waterways. The Consent Decree also requires PRASA to conduct capacity evaluations of its sludge treatment systems at approximately 50 WTPs, train operators, institute Standard Operating Procedures, and implement an Integrated Preventive Maintenance Program, as well as perform other tasks to achieve compliance with the CWA. PRASA will also pay a civil penalty of $1,024,267 and perform a Supplemental Environmental Project valued at $2,540,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. PRASA, civil action number 3:10-cv-01365 (SEC) (D.P.R.), DOJ Case No. 90-5-1-1-08385/2.

During the public comment period, the Consent Decree may be examined at the Office of the United States Attorney, District of Puerto Rico, Torre Chardon, Suite 1201, 350 Chardon Avenue, San Juan, Puerto Rico 00918. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.85 (25 cents per page reproduction cost) payable to the U.S. Treasury.

Maureen M. Katz,
Assistant Chief, Environmental Enforcement Section, Environment and Natural Resource Division.

[FR Doc. 2010-11654 Filed 5-14-10; 8:45 am]

BILLING CODE P